DEPARTMENT OF COMMERCE

National Oceanic and Atmospheric Administration

[RTID 0648-XA422]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an Exempted Fishing Permit application contains all of the required information and warrants further consideration. This Exempted Fishing Permit would allow eight commercial lobster vessels to participate in a lobster and Jonah crab monitoring study in the South Fork wind farm lease area, under the direction of the Commercial Fisheries Research Foundation. Regulations under the Magnuson-Stevens Fishery Conservation and Management Act and the Atlantic Coastal Fisheries Cooperative Management Act require publication of this notice to provide interested parties the opportunity to comment on Exempted Fishing Permit applications.

DATES: Comments must be received on or before September 24, 2020.

ADDRESSES: You may submit written comments by any of the following methods:

Email: NMFS.GAR.EFP@noaa.gov. Include in the subject line “Comments on the South Fork Wind Farm Lobster and Jonah Crab EFP.” If you are unable to submit your comment through NMFS.GAR.EFP@noaa.gov, contact Laura Hansen, Fishery Management Specialist, Laura.Hansen@noaa.gov.

FOR FURTHER INFORMATION CONTACT: Laura Hansen, Fishery Management Specialist, 978-281-9225.

SUPPLEMENTARY INFORMATION: The Commercial Fisheries Research Foundation (CFRF) submitted a complete application for an Exempted Fishing Permit (EFP) to conduct a lobster and Jonah crab monitoring study that Federal regulations would otherwise restrict. The purpose of this study is to collect pre-construction data on the abundance, size, and distribution of lobster and Jonah crab in the South Fork wind farm lease area and adjacent waters.

The EFP would authorize the eight participating vessels (3 active and 5 back up vessels) to deploy 4 standard and 6 ventless traps per 10-pot trawl. The project consists of two survey periods from August 2020 through November 2020 and May 2021 through November 2021. Each vessel would take three one-day trips during the survey periods; one day to set traps, one day for sampling and resetting, and another day of additional sampling. Soak time between trips will be five days. CFRF staff will be on board for the sampling trips. All gear would be Atlantic Large Whale Take Reduction Plan compliant. Survey traps will be separate from each vessel's commercial lobster traps and will have unique identification markers. To reduce the potential risk to right whales, CFRF has agreed to report if line and/or trawls are missing, apply distinct gear marking colors to the research trawls, and use 1,700 lb breaking strength buoy lines.

All catch during sampling trips would be retained temporarily to collect biological data and returned promptly to the ocean. No catch from the research traps would be landed for sale.

If approved, CFRF may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: September 2, 2020.
Jennifer M. Wallace,
Acting Director, Office of Sustainable Fisheries, National Marine Fisheries Service.

[FR Doc. 2020-19864 Filed 9-8-20; 8:45 am]

BILLING CODE 3510-22-P